DEPARTMENT OF JUSTICE

Notice of Lodging of Consent Decree Under the Oil Pollution Act (OPA)

Notice is hereby given that on March 15, 2010, a proposed Consent Decree in the case of United States, et al. v. Polar Tankers, Inc., Civil Action No. 2:10-cv-429, was lodged with the United States District Court for the Western District of Washington.

The United States, the State of Washington, the Muckleshoot Indian Tribe and the Puyallup Tribe of Indians (“Natural Resource Trustees”) filed a complaint concurrently with the Consent Decree alleging that on or about October 13, 2004, the oil tank vessel POLAR TEXAS, owned by Polar Tankers, Inc., a subsidiary of ConocoPhillips, Inc., discharged oil into waterways near Vashon and Maury Islands in Washington. The complaint seeks natural resource damages pursuant to Section 1002(a) of the Oil Pollution Act, 33 U.S.C 2702(a). Under the Consent Decree, Polar Tankers, Inc., will pay assessment costs and natural resource damages totaling $588,000.

The Natural Resources Trustees developed a proposed Restoration Plan and Environmental Assessment in connection with the Spill. The proposed plan is attached to the Consent Decree as Appendix A and also available at http://www.darrp.noaa.gov/.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States, et al. v. Polar Tankers, Inc., D.J. Ref. No. 90-5-1-1-08673.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $21.75 (25 cents per page reproduction cost) payable to the United States Treasury or, if by e-mail or fax, forward a check in that amount to the Consent Decree Library at the stated address.

Maureen Katz,
Assistant Section Chief, Environmental Enforcement Section, Environment and Natural Resources Division.

[FR Doc. 2010-6013 Filed 3-18-10; 8:45 am]

BILLING CODE 4410-15-P